NATIONAL SKILL STANDARDS BOARD

Notice of Open Meeting

AGENCY: National Skill Standards Board.

ACTION: Notice of open meeting.

SUMMARY: The National Skill Standards Board was established by an Act of Congress, the National Skill Standards Act, Title V, Public Law 103-227. The 23-member National Skill Standards Board will serve as a catalyst and be responsible for the development and implementation of a voluntary national system of skill standards and certification through voluntary partnerships which have the full and balanced participation of business, labor, education, civil rights organizations and other key groups.

TIME AND PLACE: The meeting will be held from 8:30 a.m. to approximately 12 p.m. on Wednesday, March 22, 2000, at the Isle of Capri Crowne Plaza Resort, 151 Beach Boulevard, Biloxi, Mississippi 39530, (228 435-5400).

AGENDA: The agenda for the Board Meeting will include: an update from the Board's committees; presentation from representatives of the Sales & Service Voluntary Partnership (SSVP), Education and Training (E&T) and Manufacturing Skill Standards Council (MSSC).

PUBLIC PARTICIPATION: The meeting, from 8:30 a.m. to 12 p.m., is open to the public. Seating is limited and will be available, on a first-come, first-served basis. Seats will be reserved for the media. Individuals with disabilities should contact Leslie Donaldson at (202) 254-8628, if special accommodations are needed.

FOR FURTHER INFORMATION CONTACT: Dave Wilcox, Executive Deputy Director at (202) 254-8628.

Dated: Signed at Washington, D.C. 29th day of February, 2000.
Edie West,
Executive Director, National Skill Standards Board.

[FR Doc. 00-5498 Filed 3-6-00; 8:45 am]

BILLING CODE 4510-23-M